DEPARTMENT OF STATE

[Public Notice No. 3608]

Secretary of State's Advisory Committee on Private International Law: Study Group on Franchising Disclosure: Meeting Notice

There will be a public meeting of a study group of the Secretary of State's Advisory Committee on Private International Law on Thursday, May 10, 2001, to consider the draft Model Franchising Disclosure Law, as prepared by an international working group convened under the authority of the International Institute for the Unification of Private Law (UNIDROIT). The meeting will be held from 9:30 a.m. to 12:30 p.m. in room 100 of the International Law Institute, 1615 New Hampshire Avenue, NW., Washington DC 20009. The meeting will be in coordination with the American Bar Association and the International Bar Association.

The purpose of the Study Group meeting is to assist the Department of State in determining the U.S. negotiating position for the first session of a Committee of Governmental Experts convened for the preparation of a draft Model Franchise Disclosure Law to be held in Rome from June 25-29, 2001.

The text prepared by the international working group convened under UNIDROIT authority will constitute the basic working document of the Committee of Governmental Experts. A copy of the preliminary draft model law, and a draft explanatory report, is available on UNIDROIT's website. These documents may be found at http://www.unidroit.org. Persons interested in the work of the study group or in attending the May 10 meeting may also request copies from Ms. Rosie Gonzales by fax at 202-776-8482, by telephone at 202-776-8420 (you may leave your request, name, telephone number, email, or mailing address on the answering machine), or by email at <gonzaler@ms.state.gov>. Email is the quickest and most efficient way to transmit the documents.

The study group meeting is open to the public up to the capacity of the meeting room. Persons wishing to attend should contact Ms. Gonzales by telephone, fax, or email, providing their name, affiliation, telephone and fax numbers, and email address. Any person who is unable to attend, but wishes to have his or her views considered, may send comments to Mary Helen Carlson, Attorney-Adviser, Office of the Assistant Legal Adviser for Private International Law (L/PIL), at the above fax number or email address, or may address them to Ms. Carlson at Room 357, South Building, 2430 E Street, NW., Washington, DC 20037-2851.

Mary Helen Carlson,
Attorney-Adviser, Office of the Assistant Legal Adviser for Private International Law, Department of State.

[FR Doc. 01-10520 Filed 4-24-01; 3:25 pm]

BILLING CODE 4710-08-P